DEPARTMENT OF COMMERCE

International Trade Administration

[C-570-913]

Crystalline Silicon Photovoltaic Cells, Whether or Not Assembled Into Modules, From the People's Republic of China: Preliminary Results of the Countervailing Duty Administrative Review and Preliminary Intent To Rescind, in Part; 2014

AGENCY: Enforcement and Compliance, International Trade Administration, Department of Commerce.

SUMMARY: The Department of Commerce (the Department) preliminarily determines that countervailable subsidies are being provided to producers and exporters of crystalline silicon photovoltaic cells, whether or not assembled into modules (solar cells), from the People's Republic of China (PRC). The period of review (POR) is January 1, 2014, through December 31, 2014. Interested parties are invited to comment on these preliminary results.

DATES: Effective January 9, 2017.

FOR FURTHER INFORMATION CONTACT: Gene Calvert, AD/CVD Operations, Office VII, Enforcement and Compliance, International Trade Administration, U.S. Department of Commerce, 1401 Constitution Avenue NW., Washington, DC 20230; telephone: (202) 482-3586.

SUPPLEMENTARY INFORMATION:

Background

On December 7, 2012, the Department issued a countervailing duty (CVD) order on solar cells from the PRC.¹ Several interested parties requested that the Department conduct an administrative review of the countervailing duty order, and February 9, 2016, the Department published in the Federal Register a notice of initiation of an administrative review of the CVD Order for 45 producers/exporters for the POR.²

¹ See Crystalline Silicon Photovoltaic Cells, Whether or Not Assembled Into Modules, From the People's Republic of China: Countervailing Duty Order, 77 FR 73017 (December 7, 2012) (CVD Order).

² See Initiation of Antidumping and Countervailing Duty Administrative Reviews, 81 FR 6832 (February 9, 2016) (Initiation Notice).

Scope of the Order

The merchandise subject to the CVD Order is crystalline silicon photovoltaic cells, and modules, laminates, and panels, consisting of crystalline silicon photovoltaic cells, whether or not partially or fully assembled into other products, including, but not limited to, modules, laminates, panels, and building integrated materials. A full description of the scope of the order is contained in the Department memorandum, “Decision Memorandum for the Preliminary Results of the Countervailing Duty Administrative Review of Crystalline Silicon Photovoltaic Cells, Whether or Not Assembled Into Modules, from the People's Republic of China; 2014,” dated concurrently with this notice (Preliminary Decision Memorandum) and hereby adopted by this notice.

Methodology

The Department is conducting this administrative review in accordance with section 751(a)(1)(A) of the Tariff Act of 1930, as amended (the Act). For each of the subsidy programs found countervailable, we preliminarily find that there is a subsidy, (i.e., a financial contribution from an authority that gives rise to a benefit to the recipient) and that the subsidy is specific.³ In making this preliminary determination, the Department relied, in part, on facts otherwise available, with the application of adverse inferences.⁴ For further information, see “Use of Facts Otherwise Available and Application of Adverse Inferences” in the accompanying Preliminary Decision Memorandum. A list of topics discussed in the Preliminary Decision Memorandum is provided at Appendix I to this notice.

³ See sections 771(5)(B) and (D) of the Act regarding financial contribution; section 771(5)(E) of the Act regarding benefit; and section 771(5A) of the Act regarding specificity.

⁴ See section 776(a) of the Act.

The Preliminary Decision Memorandum is a public document and is on file electronically via Enforcement and Compliance's Antidumping and Countervailing Duty Centralized Electronic Service System (ACCESS). ACCESS is available to registered users at http://access.trade.gov, and is available to all parties in the Central Records Unit, room B8024 of the main Department of Commerce building. In addition, a complete version of the Preliminary Decision Memorandum can be accessed directly at http://enforcement.trade.gov/frn/. The signed Preliminary Decision Memorandum and the electronic version of the Preliminary Decision Memorandum are identical in content.

Intent To Partially Rescind the Administrative Review

Pursuant to 19 CFR 351.213(d)(1), the Department will rescind an administrative review, in whole or in part, if the parties that requested a review withdraw the request within 90 days of the date of publication of the notice of initiation. Jinko Solar Co., Ltd., JinkoSolar (U.S.) Inc., Jinko Solar Import and Export Co., Ltd., JinkoSolar International Limited, Zhejiang Jinko Solar Co., Ltd. (collectively, the Jinko Solar Companies); Yingli Green Energy Holding Company Limited (Yingli); ERA Solar Co. Limited (ERA Solar); Zhejiang Sunflower Light Energy Science & Technology Limited Liability Company (Zhejiang Sunflower); and JA Solar Technology Yangzhou Co., Ltd., Shanghai JA Solar Technology Co., Ltd., and JingAo Solar Co., Ltd. (collectively, the JA Solar Companies) timely withdrew their requests for review.⁵ No other party requested a review of any of these companies. Therefore, in accordance with 19 CFR 351.213(d)(1), the Department intends to rescind this review of the countervailing duty order on solar cells from the PRC with respect to these companies. A final decision regarding whether to rescind the review of these companies will be issued with the final results of review.

⁵ See Letter to the Secretary from the Jinko Solar Companies, “Crystalline Silicon Photovoltaic Cells, Whether or Not Assembled into Modules, from the People's Republic of China: Jinko's Withdrawal of Request for Administrative Review,” (March 14, 2016); Letter to the Secretary from Yingli, “Crystalline Silicon Photovoltaic Cells, Whether or Not Assembled Into Modules, from the People's Republic of China: Yingli's Withdrawal of Request for Administrative Review,” (March 18, 2016); Letter to the Secretary from ERA Solar, “Crystalline Silicon Photovoltaic Cells, Whether or Not Assembled into Modules From The People's Republic of China; ERA Solar Co., Limited's Withdrawal of Request for Review,” (May 9, 2016); Letter to the Secretary from Zhejiang Sunflower, “Crystalline Silicon Photovoltaic Cells, Whether or Not Assembled Into Modules From The People's Republic of China; Zhejiang Sunflower Light Energy Science & Technology Limited Liability Company's Withdrawal of Request for Review,” (May 9, 2016); and Letter to the Secretary from the JA Solar Companies, “Administrative Review of the Countervailing Duty Order on Crystalline Silicon Photovoltaic Cells, Whether or Not Assembled into Modules from the People's Republic of China: Withdrawal of Request for Review,” (May 9, 2016).

Preliminary Results of Review

As a result of this review, we preliminarily determine the countervailable subsidy rates to be:

Company | Subsidy rate (percent)
Canadian Solar Manufacturing (Changshu) and its Cross-Owned Affiliates ⁶ | 20.98
Changzhou Trina Solar Energy Co., Ltd. and its Cross-Owned Affiliates ⁷ | 12.48
Non-Selected Companies Under Review | 16.69

Preliminary Rate for the Non-Selected Companies Under Review

⁶ Cross-owned affiliates are: Canadian Solar Manufacturing (Luoyang) Inc.; CSI Cells Co., Ltd.; CSI Solar Power (China) Inc.; CSI Solartronics (Changshu) Co., Ltd.; CSI Solar Technologies Inc.; and CSI Solar Manufacture Inc. See Preliminary Decision Memorandum.

⁷ Cross-owned affiliates are: Trina Solar (Changzhou) Science & Technology Co., Ltd.; Yancheng Trina Solar Energy Technology Co., Ltd.; Changzhou Trina Solar Yabang Energy Co., Ltd.; Hubei Trina Solar Energy Co., Ltd.; Turpan Trina Solar Energy Co., Ltd.; and Changzhou Trina PV Ribbon Materials Co., Ltd. See Preliminary Decision Memorandum.

For the companies for which a review was requested that were not selected as mandatory company respondents, and for which we did not receive a timely request for withdrawal of review, and which we are not finding to be cross-owned with the mandatory company respondents, we are preliminarily basing the subsidy rate on the weighted-average of the subsidy rates calculated for Canadian Solar and Trina Solar. These rates were above de minimis and not based entirely on facts available. For a list of these non-selected companies, please see the Appendix to the Preliminary Decision Memorandum.

Disclosure and Public Comment

The Department will disclose to parties to this proceeding the calculations performed in reaching the preliminary results within five days of the date of publication of these preliminary results.⁸ Interested parties may submit written comments (case briefs) at a date to be determined by the Department and rebuttal comments (rebuttal briefs) within five days after the time limit for filing case briefs.⁹ Rebuttal briefs must be limited to issues raised in the case briefs.¹⁰ Parties who submit case or rebuttal briefs are requested to submit with the argument: (1) A statement of the issue; (2) a brief summary of the argument; and (3) a table of authorities.¹¹

⁸ See 19 CFR 351.224(b).

⁹ See 19 CFR 351.309(c)(l)(ii) and 351.309(d)(l). Interested parties will be notified through ACCESS regarding the deadline for submitting case briefs.

¹⁰ See 19 CFR 351.309(d)(2).

¹¹ See 19 CFR 351.309(c)(2) and (d)(2).

Interested parties who wish to request a hearing must do so within 30 days of publication of these preliminary results by submitting a written request to the Assistant Secretary for Enforcement and Compliance, U.S. Department of Commerce, using Enforcement and Compliance's ACCESS system.¹² Hearing requests should contain the party's name, address, and telephone number, the number of participants, and a list of the issues to be discussed. If a request for a hearing is made, we will inform parties of the scheduled date for the hearing, which will be held at the U.S. Department of Commerce, 14th Street and Constitution Avenue NW., Washington, DC 20230, at a time and location to be determined.¹³ Parties should confirm by telephone the date, time, and location of the hearing. Issues addressed at the hearing will be limited to those raised in the briefs.¹⁴ All briefs and hearing requests must be filed electronically and received successfully in their entirety through ACCESS by 5:00 p.m. Eastern Time by their respective deadlines.

¹² See 19 CFR 351.310(c).

¹³ See 19 CFR 351.310.

¹⁴ See 19 CFR 351.310(c).

Unless the deadline is extended pursuant to section 751(a)(3)(A) of the Act, the Department intends to issue the final results of this administrative review, including the results of our analysis of the issues raised by the parties in their comments, within 120 days after publication of these preliminary results.

Assessment Rates and Cash Deposit Requirement

In accordance with 19 CFR 351.221(b)(4)(i), we assigned a subsidy rate for each producer/exporter subject to this administrative review. Upon issuance of the final results, the Department shall determine, and U.S. Customs and Border Protection (CBP) shall assess, countervailing duties on all appropriate entries covered by this review. We intend to issue instructions to CBP 15 days after publication of the final results of review.

Pursuant to section 751(a)(2)(C) of the Act, the Department also intends to instruct CBP to collect cash deposits of estimated countervailing duties, in the amounts shown above for each of the respective companies shown above, on shipments of subject merchandise entered, or withdrawn from warehouse, for consumption on or after the date of publication of the final results of this review. For all non-reviewed firms, we will instruct CBP to continue to collect cash deposits at the most-recent company-specific or all-others rate applicable to the company, as appropriate. These cash deposit requirements, when imposed, shall remain in effect until further notice.

These preliminary results of review are issued and published in accordance with sections 751(a)(l) and 777(i)(l) of the Act and 19 CFR 351.213 and 351.221(b)(4).

Dated: December 29, 2016.
Paul Piquado,
Assistant Secretary for Enforcement and Compliance.

Appendix I

List of Topics Discussed in the Preliminary Decision Memorandum

I. Summary

II. Background

III. Intent To Partially Rescind Review

IV. Non-Selected Companies Under Review

V. Scope of the Order

VI. Application of the Countervailing Duty Law to Imports From the PRC

VII. Diversification of the PRC's Economy

VIII. Subsidies Valuation

IX. Interest Rate Benchmarks, Discount Rates, Input, Electricity, and Land Benchmarks

X. Use of Facts Otherwise Available and Application of Adverse Inferences

XI. Analysis of Programs

XII. Verification

XIII. Disclosure and Public Comment

XIV. Conclusion

Appendix I

Non-Selected Companies Under Review

1. BYD (Shangluo) Industrial Co., Ltd.

2. Chint Solar (Zhejiang) Co., Ltd.

3. ET Solar Energy Limited

4. ET Solar Industry Limited

5. Hangzhou Sunny Energy Science and Technology Co., Ltd.

6. Jiawei Solarchina Co., Ltd.

7. Jiawei Solarchina (Shenzhen) Co., Ltd.

8. Lightway Green New Energy Co., Ltd.

9. Luoyang Suntech Power Co., Ltd.

10. Ningbo Qixin Solar Electrical Appliance Co., Ltd.

11. Shanghai BYD Co., Ltd.

12. Shenzhen Topray Solar Co. Ltd.

13. Systemes Versilis, Inc.

14. Taizhou BD Trade Co., Ltd.

15. tenKsolar (Shanghai) Co., Ltd.

16. Toenergy Technology

17. Wuxi Suntech Power Co., Ltd.

[FR Doc. 2017-00138 Filed 1-6-17; 8:45 am]

BILLING CODE 3510-DS-P